DEPARTMENT OF AGRICULTURE

Forest Service

State of Alaska—Termination of Withdrawal

SUMMARY: The Act of March 22, 1944 (58 Stat. 119) withdrew approximately 3,235 acres of land within the Cascade Creek watershed of the Tongass National Forest as a municipal watershed for the City and Borough of Sitka. The Act provided that the withdrawal would terminate upon a finding by the Secretary of Agriculture of an abandonment and nonuse for a period of two years. With the concurrence of the City and Borough of Sitka, a finding of such abandonment and nonuse is being made and the withdrawal terminated.

DATES: This finding is effective on the date of this notice.

FOR FURTHER INFORMATION CONTACT: Louise Herrera, USDA Forest Service, Washington, DC 20250. Phone: (202) 205-1255, E-mail: lherrera@fs.fed.us. Individuals who use telecommunication devices for the deaf (TDD) may call the Federal Information Relay Service (FIRS) at 1-800-877-8339 between 8 a.m. and 8 p.m., Eastern Standard Time, Monday through Friday.

SUPPLEMENTARY INFORMATION: Pursuant to the Act of March 22, 1944 (58 Stat. 119), certain lands within the Tongass National Forest in the State of Alaska comprising approximately 3,235 acres in the watershed of Cascade Creek were withdrawn from all forms of location, entry or appropriation under the mineral and nonmineral land laws of the United States and were set aside as a municipal water supply reserve for the use and benefit of the City of Sitka. The Act further provides that the right of the City of Sitka to use the reserved land for watershed purposes shall terminate upon the abandonment of the use by such municipality upon a finding of the Secretary of Agriculture of such nonuse or abandonment for a period of two years. In such case, the reservation created by the Act shall terminate to the extent of the lands involved.

The City and Borough of Sitka has notified the Forest Service by letter dated January 22, 2007, that it relinquishes any interests in the lands identified in the Cascade Creek. This relinquishment is a restatement of an earlier relinquishment dated December 23, 1996, but heretofore not acted upon. The City states that it has developed a primary municipal water supply from Blue Lake as well as a secondary emergency water supply from Indian River. Therefore, Cascade Creek is no longer needed for such purposes.

Based on the foregoing, as authorized by section 2 of the Act of March 22, 1944 (58 Stat. 119), I find that the lands described in section 1 of said Act, comprising approximately 3,235 acres of the Cascade Creek watershed in the Tongass National Forest, have not been used for a period of at least 2 years by the City and Borough of Sitka, Alaska, and that the City and Borough have effectively abandoned such use as indicated by letters to the Forest Service dated December 23, 1996 and January 22, 2007. Therefore, the reservation established by said Act of March 22, 1944 is hereby terminated.

Dated: April 9, 2008.
Paul K. Brewster,
Deputy Regional Forester.

[FR Doc. E8-8704 Filed 4-22-08; 8:45 am]

BILLING CODE 3410-11-M